DEPARTMENT OF COMMERCE

International Trade Administration

[A-307-820]

Silicomanganese from Venezuela: Rescission of Antidumping Duty Administrative Review; 2014-2015

AGENCY: Enforcement and Compliance, International Trade Administration, Department of Commerce.

SUMMARY: The Department of Commerce (the Department) is rescinding the administrative review of the antidumping duty order on silicomanganese from Venezuela for the period May 1, 2014, through April 30, 2015.

DATES: Effective Date: October 15, 2015.

FOR FURTHER INFORMATION CONTACT: Scott Hoefke or Robert James, AD/CVD Operations, Office VI, Enforcement and Compliance, International Trade Administration, U.S. Department of Commerce, 14th Street and Constitution Avenue NW., Washington, DC 20230; telephone: (202) 482-4947 and (202) 482-0649, respectively.

SUPPLEMENTARY INFORMATION:

Background

On July 1, 2015, based on a timely request for review by Eramet Marietta, Inc. (Eramet) and Felman Production, LLC (Felman) (collectively, Petitioners), the Department published in the Federal Register a notice of initiation of an administrative review of the antidumping duty order on silicomanganese from Venezuela covering the period May 1, 2014, through April 30, 2015.¹ On August 25, 2015, Petitioners withdrew its request for an administrative review of all of the companies listed in its review request.²

¹ See Initiation of Antidumping and Countervailing Duty Administrative Reviews, 80 FR 37588 (July 1, 2015).

² See letter from Petitioners to the Secretary of Commerce entitled, “Silicomanganese from Venezuela: Withdrawal of Request for Administrative Review of Antidumping Order,” dated August 25, 2015.

Rescission of Review

Pursuant to 19 CFR 351.213(d)(1), the Department will rescind an administrative review, in whole or in part, if the party that requested the review withdraws its request within 90 days of the publication of the notice of initiation of the requested review. In this case, Petitioners timely withdrew its review request by the 90-day deadline, and no other party requested an administrative review of the antidumping duty order. As a result, we are rescinding the administrative review of silicomanganese from Venezuela for the period May 1, 2014, through April 30, 2015.

Assessment

The Department will instruct U.S. Customs and Border Protection (CBP) to assess antidumping duties on all appropriate entries. Because the Department is rescinding this administrative review in its entirety, the entries to which this administrative review pertained shall be assessed antidumping duties at rates equal to the cash deposit of estimated antidumping duties required at the time of entry, or withdrawal from warehouse, for consumption, in accordance with 19 CFR 351.212(c)(1)(i). The Department intends to issue appropriate assessment instructions to CBP 15 days after the publication of this notice.

Notifications

This notice serves as a final reminder to importers of their responsibility under 19 CFR 351.402(f)(2) to file a certificate regarding the reimbursement of antidumping duties prior to liquidation of the relevant entries during this review period. Failure to comply with this requirement could result in the Department's presumption that reimbursement of the antidumping duties occurred and the subsequent assessment of doubled antidumping duties.

This notice also serves as a final reminder to parties subject to administrative protective order (APO) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with sections 751(a)(1) and 777(i)(1) of the Tariff Act of 1930, as amended, and 19 CFR 351.213(d)(4).

Dated: October 7, 2015.
Christian Marsh,
Deputy Assistant Secretary for Antidumping and Countervailing Duties.

[FR Doc. 2015-26256 Filed 10-14-15; 8:45 am]

BILLING CODE 3510-DS-P